LEGAL SERVICES CORPORATION

Sunshine Act Meeting of the Board of Directors

Time and Date: The Board of Directors of the Legal Services Corporation will meet September 15, 2003 from 1:30 p.m. until conclusion of the Board's agenda.

Location: The Melrose Hotel, 2430 Pennsylvania Avenue, NW, Washington, DC 20037.

Status of Meeting: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c) (10)] and the corresponding provisions of the Legal Services Corporation's implementing regulation [45 CFR 1622.5(h)]. A copy of the General Counsel's Certification that the closing is authorized by law will be available upon request.

Matters to be Considered: Open Session

1. Approval of agenda.

2. Approval of the minutes of the Board's meeting of June 27 & 28, 2003.

3. Approval of the minutes of the Executive Session of the Board's meeting of June 28, 2003.

4. Approval of the minutes of the Board's Annual Performance Reviews Committee meeting of June 27, 2003.

5. Recognition of the Friends of the Legal Services Corporation's Board of Directors.

6. Chairman's Report.

7. Members' Reports.

8. Acting Inspector General's Report.

9. President's Report.

10. Consider and act on the report of the Board's Provision for the Delivery of Legal Services Committee.

11. Consider and act on the report of the Board's Operations & Regulations Committee.

12. Consider and act on the report of the Board's Finance Committee.

13. Consider and act on the report of the Board's Search Committee for LSC President and Inspector General.

14. Report by Mauricio Vivero, LSC Vice President for Governmental Relations & Public Affairs, on LSC's High-tech Corporate Advisory Board and Corporate Sponsorship.

15. Consider and act on six-month contract extensions for LSC Vice Presidents Randi Youells, Mauricio Vivero, and Victor Fortuno.

16. Consider and act on other business.

17. Public comment.

18. Consider and act on whether to authorize an executive session of the Board to receive a briefing by the Acting Inspector General on the activities of the Office of the Inspector General and to consider and act on the Office of Legal Affairs' report on potential and pending litigation involving LSC.

Closed Session

19. Briefing ¹ by the Acting Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

20. Consider and act on the Office of Legal Affairs' report on potential and pending litigation involving LSC.

Open Session

21. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: September 5, 2003.
Victor M. Fortuno,
Vice President for Legal Affairs, General Counsel & Corporate Secretary.

[FR Doc. 03-23119 Filed 9-5-03; 4:13 pm]

BILLING CODE 7050-01-P